DEPARTMENT OF EDUCATION

[CFDA No.: 84.305T]

Office of Educational Research and Improvement: Field-Initiated Studies (FIS) Education Research Grant Program; Notice Inviting Applications for New Awards for Fiscal Year (FY) 2001

Purpose of Program: The Field-Initiated Studies (FIS) Education Research Grant Program awards grants to conduct education research in which topics and methods of study are generated by investigators.

Eligible Applicants: Institutions of higher education; State and local education agencies; public and private organizations, institutions, and agencies; and individuals.

Applications Available: July 21, 2000.

Application packages will be available by mail and electronically on the World Wide Web at the following sites:

http://www.ed.gov/offices/OERI/FIS/

www.ed.gov/GrantApps/

Deadline for Transmittal of Applications: September 15, 2000.

Deadline for Receipt of Letters of Intent: August 18, 2000.

Note: A Letter of Intent is optional, but encouraged, for each application. The Letter of Intent is for OERI planning purposes and will not be used in the evaluation of the application. Instructions for the Letter of Intent will be in the application package.

Tentative Award Date: December 15, 2000.

Estimated Available Funds: $15 million for two FY 2001 FIS cycles.

The estimated amount of funds available for new awards is based on the Administration's request for this program for FY 2001. The actual level of funding, if any, depends on final congressional action. We are inviting applications before an appropriation for FY 2001 in order to allow enough time to consider holding two grant competition cycles in FY 2001.

Estimated Range of Awards: The size of the awards will be commensurate with the nature and scope of the work proposed. In the most recent FIS competition, the grant awards ranged from approximately $270,000 (for 18 months) to about $1,740,000 (for 36 months).

Budget Period: 12-month period.

Project Period: 12 to 36 months.

Note: The Department is not bound by any estimates in this notice.

Applicable Regulations: (a) The Education Department General Administrative Regulations (EDGAR) in 34 CFR parts 74, 75, 77, 80, 81, 82, 85, 86 (part 86 applies to IHEs only), 97, 98, and 99. (b) The regulations in 34 CFR part 700.

SUPPLEMENTARY INFORMATION: The FIS Education Research Grant Program is highly competitive. Strong applications for FIS grants clearly address each of the applicable selection criteria. They make a well-reasoned and compelling case for the national significance of the problems or issues that will be the subject of the proposed research, and present a research design that is complete, clearly delineated, and incorporates sound research methods. In addition, the personnel descriptions included in strong applications make it apparent that the project director, principal investigator, and other key personnel possess training and experience commensurate with their duties.

The project period of the grant may be from one to three years. In the application, the project period should be divided into 12-month budget periods. Each 12-month budget should be clearly delineated and justified in terms of the proposed activities.

Collaboration: We encourage collaboration in the conduct of research. For example, major research universities and institutions may collaborate with historically underrepresented institutions, such as Historically Black Colleges and Universities, Hispanic-Serving Institutions, and Tribal Colleges and Universities.

For Applications Contact: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its web site: http://www.ed.gov/pubs/edpubs.html

Or you may contact ED Pubs at its E-mail address:

Edpubs@inet.ed.gov

If you request an application from ED Pubs, be sure to identify this competition as follows: CFDA Number 84.305T.

FOR FURTHER INFORMATION CONTACT: Seresa Simpson, Field-Initiated Studies Education Research Grants Program, Office of Educational Research and Improvement, U.S. Department of Education, 555 New Jersey Avenue, NW., room 606c, Washington, DC 20208-5510. Telephone: (202) 219-1591. E-Mail: seresa_simpson@ed.gov.

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

Individuals with disabilities may obtain a copy of the application package in an alternative format by contacting that person. However, the Department is not able to reproduce in an alternative format the standard forms included in the application.

Electronic Access to This Document

You may view this document, as well as all other Department of Education documents published in the Federal Register, in text or Adobe Portable Document Format (PDF) on the Internet at either of the following sites:

http//ocfo.ed.gov/fedreg.htm

http://www.ed.gov/news.html

To use the PDF, you must have Adobe Acrobat Reader, which is available free at either of the previous sites. If you have questions about using PDF, call the U.S. Government Printing Office (GPO), toll free, at 1-888-293-6498 or in the Washington, DC, area at (202) 512-1530.

Note: The official version of this document is the document published in the Federal Register. Free Internet access to the official edition of the Federal Register and the Code of Federal Regulations is available on GPO Access at: http://www.access.gpo.gov/nara/index.html

Program Authority: 20 U.S.C. 6031(c)(2)(B).

Dated: July 11, 2000.
C. Kent McGuire,
Assistant Secretary for Educational Research and Improvement.

[FR Doc. 00-17925 Filed 7-13-00; 8:45 am]

BILLING CODE 4000-01-U